DEPARTMENT OF HEALTH AND HUMAN SERVICES

Substance Abuse and Mental Health Services Administration

Advisory Committee for Women's Services (ACWS); Notice of Meeting

Pursuant to Public Law 92-463, notice is hereby given of the meeting on of the Substance Abuse and Mental Health Services Administration's (SAMHSA) Advisory Committee for Women's Services (ACWS) on August 26, 2014.

The meeting will include remarks from the Associate Administrator for Women's Services and Chair of the ACWS, discussions on SAMHSA's working definition of trauma and principles and guidance for a trauma-informed approach, the high-risk/high-needs of girls and young women, and an open conversation with the Administrator. The meeting is open to the public and will be held online via Microsoft Office 2007 Live Meeting. Interested persons may present data, information, or views, orally or in writing, on issues pending before the committee. Written submissions should be forwarded to the contact person on or before August 18, 2014. Oral presentations from the public will be scheduled at the conclusion of the meeting. Individuals interested in making oral presentations are encouraged to notify the contact on or before August 18, 2014. Five minutes will be allotted for each presentation.

Substantive program information may be obtained after the meeting by accessing the SAMHSA Committee Web site, http://nac.samhsa.gov/, or by contacting Nadine Benton.

Committee Name: Substance Abuse and Mental Health Services, Administration Advisory Committee for Women's Services (ACWS).

Date/Time/Type: August 26, 2014 from 1:00 p.m. to 4:00 p.m. EDT: (OPEN).

Place: Live meeting Web cast.

Participants can join the event directly at: https://www.mymeetings.com/nc/join.php?i=PW7187964&p=SAMHSA%20ACWS&t=c

Conference number: PW7187964.

Audience passcode: SAMHSA ACWS.

Call-in number: 800-857-9804.

Contact: Nadine Benton, Acting Designated Federal Official, SAMHSA's Advisory Committee for Women's Services, 1 Choke Cherry Road, Rockville, Maryland 20857, Telephone: (240) 276-0127, Fax: (240) 276-2252, Email: nadine.benton@samhsa.hhs.gov.

Cathy J. Friedman,
Public Health Analyst, SAMHSA.

[FR Doc. 2014-18162 Filed 7-31-14; 8:45 am]

BILLING CODE 4162-20-P